DEPARTMENT OF AGRICULTURE

Grain Inspection, Packers and Stockyards Administration

Designation for the Amarillo, TX; Cairo, IL; State of Louisiana; State of North Carolina; Belmond, IA; State of New Jersey; and State of New York Areas

AGENCY: Grain Inspection, Packers and Stockyards Administration, USDA.

ACTION: Notice.

SUMMARY: GIPSA is announcing the designation of the following organizations to provide official services under the United States Grain Standards Act, as amended (USGSA): Amarillo Grain Exchange, Inc. (Amarillo); Cairo Grain Inspection Agency, Inc. (Cairo); Louisiana Department of Agriculture and Forestry (Louisiana); North Carolina Department of Agriculture (North Carolina); and D. R. Schaal Agency, Inc. (Schaal).

DATES: Effective Date: October 1, 2010.

ADDRESSES: Karen W. Guagliardo, Branch Chief, Review Branch, Compliance Division, GIPSA, USDA, STOP 3604, Room 1647-S, 1400 Independence Avenue, SW., Washington, DC 20250-3604.

FOR FURTHER INFORMATION CONTACT: Karen W. Guagliardo, 202-720-8262 or Karen.W.Guagliardo@usda.gov.

Read Applications: All applications and comments will be available for public inspection at the office above during regular business hours (7 CFR 1.27(c)).

SUPPLEMENTARY INFORMATION: In the March 31, 2010, Federal Register (75 FR 16068), GIPSA requested applications for designation to provide official services in the geographic areas presently serviced by the agencies named above. Applications were due by April 30, 2010. GIPSA received no applications for the areas presently serviced by Amarillo, Cairo, and North Carolina and subsequently requested applications for these areas in the June 25, 2010, Federal Register (75 FR 36348). Applications for this announcement were due by July 26, 2010.

Amarillo, Cairo, Louisiana, North Carolina, and Schaal were the sole applicants for designations to provide official services in these areas. As a result, GIPSA did not ask for additional comments.

GIPSA evaluated all available information regarding the designation criteria in section 7(f)(l) of the USGSA (7 U.S.C. 79(f)) and determined that Amarillo, Cairo, Louisiana, North Carolina, and Schaal are qualified to provide official services in the geographic areas specified in the March 31, 2010, and June 25, 2010, Federal Register for which they applied. These designation actions to provide official services in the specified areas are effective October 1, 2010, and terminate on September 30, 2013.

Interested persons may obtain official services by calling the telephone numbers listed below:

Official agency | Headquarters location and telephone | Designation start | Designation end
Amarillo | Amarillo, TX (806-372-2152) | 10/1/2010 | 9/30/2013
| Additional Location: Guymon, OK
Cairo | Cairo, IL (618-734-1316) | 10/1/2010 | 9/30/2013
Louisiana | Baton Rouge, LA (318-428-5453) | 10/1/2010 | 9/30/2013
| Additional Locations: Jonesville, Oak Grove, Opelousas, LA
North Carolina | Raleigh, NC (919-733-4491) Additional Location: Elizabeth City, NC. | 10/1/2010 | 9/30/2013
Schaal | Belmond, IA (641-444-7292) | 10/1/2010 | 9/30/2013

Section 7(f)(1) of the USGSA authorizes GIPSA's Administrator to designate a qualified applicant to provide official services in a specified area after determining that the applicant is better able than any other applicant to provide such official services (7 U.S.C. 79(f)(1)).

Under section 7(g)(1) of the USGSA, designations of official agencies are effective for 3 years unless terminated by the Secretary; however, designations may be renewed according to the criteria and procedures prescribed in section 7(f) of the Act.

Authority: 7 U.S.C. 71-87k.

Marianne Plaus,
Acting Administrator, Grain Inspection, Packers and Stockyards Administration.

[FR Doc. 2010-21456 Filed 8-27-10; 8:45 am]

BILLING CODE 3410-KD-P